INTERNATIONAL TRADE COMMISSION

[Investigation No. 337-TA-1105]

Certain Programmable Logic Controller (PLCs), Components Thereof, and Products Containing Same; Commission Determination Not To Review an Initial Determination Granting a Motion of Non-Party North Coast To Intervene

AGENCY: U.S. International Trade Commission.

ACTION: Notice.

SUMMARY: Notice is hereby given that the U.S. International Trade Commission has determined not to review an initial determination (“ID”) (Order No. 10) granting a motion of non-party North Coast Electric Company (“North Coast”) to intervene in the above-captioned investigation.

FOR FURTHER INFORMATION CONTACT: Megan M. Valentine, Office of the General Counsel, U.S. International Trade Commission, 500 E Street SW, Washington, DC 20436, telephone 202-708-2301. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on March 29, 2018, based on a complaint filed by Radwell International, Inc., of Willingboro, New Jersey (“Radwell”). 83 FR 13515-16 (Mar. 29, 2018). The complaint alleges violations of section 337 of the Tariff Act of 1930, as amended, 19 U.S.C. 1337, in the importation into the United States, the sale for importation, and the sale within the United States after importation of certain programmable logic controllers (PLCs), components thereof, and products containing same by reason of: (l) A conspiracy to fix resale prices in violation of Section l of the Sherman Act; (2) a conspiracy to boycott resellers in violation of Section 1 of the Sherman Act; and (3) monopolization in violation of Section 2 of the Sherman Act, the threat or effect of which is to destroy or substantially injure a domestic industry in the United States, or to restrain or monopolize trade and commerce in the United States. Id. The notice of investigation names Rockwell Automation, Inc. of Milwaukee, Wisconsin as respondent. Id. The Office of Unfair Import Investigations was also named as a party to the investigation. Id.

On May 25, 2018, Radwell filed a motion requesting the ALJ to certify to the Commission a request for judicial enforcement of a subpoena duces tecum directed to non-party North Coast. On June 8, 2018, pursuant to Commission rules 210.15 and 210.19 (19 CFR 210.15, 210.19), North Coast filed an unopposed motion to intervene for the limited purpose of submitting an opposition to the pending motion to certify, along with the opposition. No party filed a response concerning the motion to intervene.

On July 9, 2018, the ALJ issued the subject ID, granting North Coast's motion to intervene. The ALJ found that North Coast's interests are directly at issue in the investigation and that no party would suffer prejudice as a result of North Coast's intervention for the limited purpose of opposing the motion to certify. No petitions for review were filed.

The Commission has determined not to review the subject ID.

The authority for the Commission's determination is contained in section 337 of the Tariff Act of 1930, as amended (19 U.S.C. 1337), and in Part 210 of the Commission's Rules of Practice and Procedure (19 CFR part 210).

By order of the Commission.
Issued: July 27, 2018.
Lisa Barton,
Secretary to the Commission.

[FR Doc. 2018-16483 Filed 7-31-18; 8:45 am]

BILLING CODE 7020-02-P